NUCLEAR REGULATORY COMMISSION

Sunshine Act Meeting Notice

DATES: Weeks of May 6, 13, 20, 27, June 3, 10, 2002.

Place: Commissioners' Conference Room, 11555 Rockville Pike, Rockville, Maryland.

Status: Public and Closed.

Matters to be Considered

Week of May 6, 2002

There are no meetings scheduled for the Week of May 6, 2002.

Week of May 13, 2002—Tentative

Thursday, May 16, 2002

9:25 a.m. Affirmation Session (Public Meeting) (If needed)

9:30 a.m. Meeting with World Association of Nuclear Operators (WANO) (Public Meeting)

This meeting will be webcast live at the Web address— www.nrc.gov

2:00 p.m. Discussion of Intragovernmental Issues (Closed—Ex. 9)

Week of May 20, 2002—Tentative

Monday, May 20, 2002

2:00 p.m. Discussion of Security Issues (Closed—Ex. 1)

Week of May 27, 2002—Tentative

Tuesday, May 28, 2002

9:30 a.m. Briefing on Nuclear Material Licensee Decommissioning and Bankruptcy Issue (Public Meeting) (Contact: Larry Camper, 301-415-7234)

This meeting will be webcast live at the Web address— www.nrc.gov

Wednesday, May 29, 2002

9:25 a.m. Affirmation Session (Public Meeting) (If needed)

9:30 a.m. Briefing on the Status of New Reactor Licensing Activities (Public Meeting) (Contact: Joseph Williams, 301-415-1470)

This meeting will be webcast live at the Web address— www.nrc.gov

Week of June 3, 2002—tentative

Thursday, June 6, 2002

2:00 p.m. Briefing on Strategic Workforce Planning and Human Capital Initiatives (Closed—Ex. 2)

Week of June 10, 2002—Tentative

There are no meetings scheduled for the Week of June 10, 2002.

________

The schedule for Commission meetings is subject to change on short notice. To verify the status of meetings call (recording)—(301) 415-1292. Contact person for more information: David Louis Gamberoni (301) 415-1651.

The NRC Commission Meeting Schedule can be found on the Internet at: www.nrc.gov/what-we-do/policy-making/schedule.html

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 2, 2002.
David Louis Gamberoni,
Technical Coordinator, Office of the Secretary.

[FR Doc. 02-11370 Filed 5-3-02; 10:56 am]

BILLING CODE 7590-01-M